NATIONAL TRANSPORTATION SAFETY BOARD

Sunshine Act Meeting

Time and Date: 9:30 a.m., Tuesday April 19, 2005.

Place: NTSB Board Room, 429 L'Enfant Plaza, SW., Washington, DC 20594.

Status: The one item is open to the public.

Matters To Be Considered: 7711 Highway Accident Report—Motorcoach Run-Off-The Road, Highway Accident that Occurred Near Tallulah, Louisiana, on October 13, 2003.

News Media Contact: Telephone: (202) 314-6410.

Individuals requesting specific accommodations should contact Ms. Carolyn Dargan at (202) 314-6305 by Friday, April 15, 2005.

The public may view the meeting via a live or archived webcast by accessing a link under “News & Events” on the NTSB home page at www.ntsb.gov.

FOR FURTHER INFORMATION CONTACT: Vicky D'Onofrio, (202) 314-6410.

Dated: April 8, 2004.
Vicky D'Onofrio,
Federal Register Liaison Coordinator.

[FR Doc. 05-7445 Filed 2-8-05; 2:08 pm]

BILLING CODE 7533-01-M